DEPARTMENT OF HEALTH AND HUMAN SERVICES

Health Resources and Services Administration

Update to the Health Resources and Services Administration-Supported Women's Preventive Services Guidelines Relating to Screening for Urinary Incontinence

AGENCY: Health Resources and Services Administration (HRSA), Department of Health and Human Services.

ACTION: Notice.

SUMMARY: A Federal Register notice published on September 29, 2023, detailed and sought public comment on recommendations under development by the Women's Preventive Services Initiative (WPSI), regarding updates to the HRSA-supported Women's Preventive Services Guidelines (Guidelines). The proposed updates specifically related to Screening for Urinary Incontinence. WPSI convenes health professionals to develop draft recommendations for HRSA's consideration. Two public comments were received and considered as detailed below. On December 28, 2023, HRSA accepted as final WPSI's recommended updates to the Screening for Urinary Incontinence guideline. Under applicable law, non-grandfathered group health plans and health insurance issuers offering non-grandfathered group and individual health insurance coverage must include coverage, without cost sharing, for certain preventive services, including those provided for in the HRSA-supported Guidelines. The Departments of Labor, Health and Human Services, and the Treasury have previously issued regulations describing how group health plans and health insurance issuers apply the coverage requirements. Please see https://www.hrsa.gov/womens-guidelines for additional information.

FOR FURTHER INFORMATION CONTACT: Kimberly Sherman, HRSA, Maternal and Child Health Bureau, telephone: (301) 443-8283, email: wellwomancare@hrsa.gov.

SUPPLEMENTARY INFORMATION: Under the Patient Protection and Affordable Care Act, Public Law 111-148, the preventive care and screenings set forth in the Guidelines are required to be covered without cost-sharing by certain group health plans and health insurance issuers. HRSA established the Guidelines in 2011 based on expert recommendations by the Institute of Medicine, now known as the National Academy of Medicine, developed under a contract with the Department of Health and Human Services. Since 2016, HRSA has funded cooperative agreements with the American College of Obstetricians and Gynecologists for the Women's Preventive Services Initiative (WPSI) to convene a coalition representing clinicians, academics, and consumer-focused health professional organizations to conduct a rigorous review of current scientific evidence, solicit and consider public input, and make recommendations to HRSA regarding updates to the Guidelines to improve adult women's health across the lifespan. HRSA then determines whether to support, in whole or in part, the recommended updates to the Guidelines.

WPSI includes an Advisory Panel and two expert committees, the Multidisciplinary Steering Committee and the Dissemination and Implementation Steering Committee, which are comprised of a broad coalition of organizational representatives who are experts in disease prevention and women's health issues. With oversight by the Advisory Panel, and with input from the Multidisciplinary Steering Committee, WPSI examines the evidence to develop new (and update existing) recommendations for women's preventive services. WPSI's Dissemination and Implementation Steering Committee takes HRSA-approved recommendations and disseminates them through the development of implementation tools and resources for both patients and practitioners.

WPSI bases its recommended updates to the Guidelines on review and synthesis of existing clinical guidelines and new scientific evidence, following the National Academy of Medicine standards for establishing foundations for and rating strengths of recommendations, articulation of recommendations, and external reviews. Additionally, HRSA requires that WPSI incorporate processes to assure opportunity for public comment, including participation by patients and consumers, in the development of the updated Guidelines.

WPSI proposed and HRSA has accepted recommended updates to the Guideline relating to Screening for Urinary Incontinence, which now reads, “The Women's Preventive Services Initiative recommends screening women for urinary incontinence annually. Screening should assess whether women experience urinary incontinence and whether it impacts their activities and quality of life. If indicated, facilitating further evaluation and treatment is recommended.”

Discussion of Recommended Updated Guideline Relating to Screening for Urinary Incontinence: WPSI recommended minor updates to the previous Guideline language. The first change is removal of the word “ideally” from the second sentence, for clarity. Removal of the word “ideally” does not substantively change the Guideline. The second change is in the final sentence, changing the word “referring” to “facilitating” to reflect that clinicians in practice, after screening for urinary incontinence, may decide to treat or manage urinary incontinence as part of standard primary care services or refer to specialists if specialist care is needed. The change in language from “referring” to “facilitating” does not substantively change the Guideline. Lastly, WPSI recommended minor editorial revisions to the language of the Guideline, for clarity. These minor editorial revisions have no substantive effect on the Guideline.

A Federal Register notice published on September 29, 2023, sought public comment on these proposed updates (88 FR 67318).¹ WPSI considered all public comments as part of its deliberative process and provided the comments to HRSA for its consideration. Two respondents provided comments during the public comment period. One commenter suggested improving reimbursement by including billing codes for screening and counseling. This comment falls outside the scope of the Guidelines. The other commenter suggested adding the word “co-morbidities” to a WPSI list of potential research topics. This comment was not accepted as it does not address the recommendation itself, but rather supporting materials.

¹ See https://www.federalregister.gov/documents/2023/09/29/2023-21514/notice-of-request-for-public-comments-on-a-draft-recommendation-to-update-the-hrsa-supported-womens.

After consideration of public comment, WPSI submitted the recommended updates for Screening for Urinary Incontinence as detailed above. On December 28, 2023, the HRSA Administrator accepted WPSI's recommendations and, as such, updated the Women's Preventive Services Guidelines. Non-grandfathered group health plans and health insurance issuers offering group or individual health insurance coverage must cover without cost-sharing the services and screenings listed on the updated Women's Preventive Services Guidelines for plan years (in the individual market, policy years) that begin 1 year after this date. Thus, for most plans, this update will take effect for purposes of the Section 2713 coverage requirement in 2025. Additional information regarding the Women's Preventive Services Guidelines can be accessed at the following link: https://www.hrsa.gov/womens-guidelines.

Authority: Section 2713(a)(4) of the Public Health Service Act, 42 U.S.C. 300gg-13(a)(4).

Carole Johnson,
Administrator.

[FR Doc. 2023-28970 Filed 1-3-24; 8:45 am]

BILLING CODE 4165-15-P